DEPARTMENT OF COMMERCE

International Trade Administration

[A-580-809]

Circular Welded Non-Alloy Steel Pipe From the Republic of Korea: Final Results of Antidumping Duty Administrative Review; 2022-2023

AGENCY: Enforcement and Compliance, International Trade Administration, Department of Commerce.

SUMMARY: The U.S. Department of Commerce (Commerce) determines that certain producers/exporters subject to this administrative review made sales of circular welded non-alloy steel pipe (CWP) from the Republic of Korea (Korea) at prices below normal value during the period of review (POR), November 1, 2022, through October 31, 2023.

DATES: Applicable September 12, 2025.

FOR FURTHER INFORMATION CONTACT: Benjamin Nathan or Mira Warrier, AD/CVD Operations, Office II, Enforcement and Compliance, International Trade Administration, U.S. Department of Commerce, 1401 Constitution Avenue NW, Washington, DC 20230; telephone: (202) 482-3834 or 202-482-8031, respectively.

SUPPLEMENTARY INFORMATION:

Background

On December 13, 2024, Commerce published the Preliminary Results in the Federal Register.¹ We invited interested parties to comment on the Preliminary Results.² On August 1, 2025, Commerce issued a Post-Preliminary Analysis that made changes to the differential pricing analysis method utilized in the Preliminary Results.³ We invited interested parties to comment on the Post-Preliminary Analysis.⁴ For a complete description of the events that occurred since the Preliminary Results and Post-Preliminary Analysis, see the Issues and Decision Memorandum. A full discussion of the issues raised by parties for these final results are discussed in the Issues and Decision Memorandum.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Circular Welded Non-Alloy Steel Pipe from the Republic of Korea: Preliminary Results of Antidumping Duty Administrative Review; 2022-2023, 89 FR 100963 (December 13, 2024) (Preliminary Results), and accompanying Preliminary Decision Memorandum (PDM).

² See Preliminary Results.

³ See Memorandum, “Post-Preliminary Analysis,” dated August 1, 2025 (Post-Preliminary Analysis).

⁴ See Memorandum, “Briefing Schedule for Post-Preliminary Results,” dated August 12, 2025.

⁵ See Memorandum, “Issues and Decision Memorandum for the Final Results of the Administrative Review of the Antidumping Duty Order on Circular Welded Non-Alloy Steel Pipe from the Republic of Korea; 2022-2023,” dated concurrently with, and hereby adopted by, this notice (Issues and Decision Memorandum).

Scope of the Order ⁶

⁶ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992) (Order).

The product covered by the scope of the Order is CWP from Korea. For a complete description of the scope of the Order, see the Issues and Decision Memorandum.

Analysis of Comments Received

All issues raised in the case and rebuttal briefs submitted by interested parties in this review are addressed in the Issues and Decision Memorandum. A list of the issues addressed in the Issues and Decision Memorandum is attached to this notice as Appendix I.

Changes Since the Preliminary Results

Based on a review of the record and comments received from interested parties regarding our Preliminary Results, we made certain changes to Hyundai Steel Company's (Hyundai Steel) and Husteel Co., Ltd.'s (Husteel) preliminary weighted-average dumping margin calculations. For a discussion of these changes, see the Issues and Decision Memorandum.

Rate for Non-Selected Companies

Generally, Commerce looks to section 735(c)(5) of the Act, which provides instructions for calculating the all-others rate in an investigation, for guidance when calculating the weighted average dumping margin for respondents that were not individually examined in an administrative review. Section 735(c)(5)(A) of the Act provides that the all-others rate should be calculated by weight averaging the weighted-average dumping margins determined for individually examined respondents, excluding rates that are zero, de minimis, or based entirely on facts available. We calculated a weighted-average dumping margin of zero for Hyundai Steel. Therefore, we have assigned the dumping rate calculated for Husteel to the companies not selected for individual examination in this review. See Appendix II.

Final Results of Administrative Review

We determine that the following estimated weighted-average dumping margins exist for the period November 1, 2022, through October 31, 2023:

Producer or exporter | Weighted- average dumping margin (percent)
Husteel Co., Ltd | 1.23
Hyundai Steel Company ⁷ | 0.00
Review-Specific Rate for Non-Examined Companies ⁸ | 1.23

Disclosure

⁷ See Circular Welded Non-Alloy Steel Pipe from the Republic of Korea; Certain Oil Country Tubular Goods from the Republic of Korea; Welded Line Pipe from the Republic of Korea; and Large Diameter Welded Pipe from the Republic of Korea: Notice of Final Results of Antidumping Duty Changed Circumstances Reviews, 89 FR 89962 (November 14, 2024) for information pertaining to the status of Hyundai Steel's successor-in-interest. Following the completion of these final results, the cash deposit rate applicable to Hyundai Steel will be applicable to Hyundai Steel's successor-in-interest, Hyundai Steel Pipe Co., Ltd.

⁸ See Appendix II.

Commerce intends to disclose the calculations and analysis performed in connection with the final results of this administrative review to interested parties within five days of any public announcement or, if there is no public announcement, within five days of the publication date of this notice in the Federal Register, in accordance with 19 CFR 351.224(b).

Assessment Rates

Pursuant to section 751(a)(2)(C) of the Act and 19 CFR 351.212(b), Commerce shall determine, and U.S. Customs and Border Protection (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).⁹

⁹ See 19 CFR 351.212(c)(2).

Because the weighted-average dumping margin for Husteel is not zero or de minimis (i.e., less than 0.5 percent), we calculated importer-specific ad valorem assessment rate based on the ratio of the total amount of dumping calculated for the examined sales for each importer to the total entered value of the same sales. Where an importer-specific ad valorem assessment rate is zero or de minimis, or a respondent's weighted-average dumping margin is zero or de minimis, Commerce will instruct CBP to liquidate appropriate entries without regard to antidumping duties.

For entries of subject merchandise during the POR produced by Husteel or Hyundai Steel for which they did not know that the merchandise was destined to the United States, we will instruct CBP to liquidate those entries at the all-others rate of 4.80 percent, if there is no rate for the intermediate company(ies) involved in the transaction.¹⁰

¹⁰ See Antidumping and Countervailing Duty Proceedings: Assessment of Antidumping Duties, 68 FR 23954 (May 6, 2003).

Cash Deposit Requirements

The following cash deposit requirements will be effective for all shipments of subject merchandise entered, or withdrawn from warehouse, for consumption on or after the publication date of the final results of this administrative review in the Federal Register, as provided for by section 751(a)(2) of the Act: (1) the cash deposit rate for companies subject to this review will be the rates established in these final results of the review; (2) for merchandise exported by producers or exporters not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 4.80 percent, the all-others rate established in the investigation.¹¹ These cash deposit requirements, when imposed, shall remain in effect until further notice.

¹¹ See Order.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: September 8, 2025.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Discussion of the Issues

Comment 1: Whether Commerce Should Continue to Grant Hyundai Steel's Constructed Export Price (CEP) Offset

Comment 2: Hyundai Steel's Cash Deposit Rate

Comment 3: Husteel's U.S. Selling Expenses

Comment 4: Whether Commerce Should Change Husteel's Cost File

Comment 5: Whether Commerce Should Grant Husteel a CEP Offset

Comment 6: Whether to Continue Applying the Differential Pricing Methodology to the Final Results

VI. Recommendation

Appendix II

Companies Not Selected for Individual Examination

1. Aju Besteel.

2. Bookook Steel.

3. Chang Won Bending.¹²

¹² We note that in the Initiation Notice, this company was inadvertently listed as Chan Won Bending. The correct name is Chang Won Bending.

4. Dae Ryung.

5. Daewoo Shipbuilding & Marine Engineering (DSME).

6. Daiduck Piping.

7. Dong Yang Steel Pipe.

8. Dongbu Steel Co., Ltd.; Dongbu Steel.

9. EEW Korea Company.

10. Histeel Co., Ltd. Histeel.

11. Hyundai RB.

12. Kiduck Industries.

13. Kum Kang Kind.

14. Kumsoo Connecting.

15. Miju Steel Mfg.

16. NEXTEEL Co., Ltd.

17. Samkand M & T.

18. Seah FS.

19. SeAH Steel Corporation; Seah Steel.

20. Steel Flower.

21. YCP Co., Ltd.

[FR Doc. 2025-17680 Filed 9-11-25; 8:45 am]

BILLING CODE 3510-DS-P